DEPARTMENT OF HEALTH AND HUMAN SERVICES

Centers for Disease Control and Prevention

[60Day-04-04KE]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-498-1210 or send comments to Sandi Gambescia, CDC Assistant Reports Clearance Officer, 1600 Clifton Road, MS-E11, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Evaluation of the Sexually Transmitted Disease (STD) Faculty Expansion Program—New—National Center for HIV, STD, and TB Prevention (NCHSTP), Centers for Disease Control and Prevention (CDC).

Background

Primary care physicians play a significant role in STD prevention and control. Diagnosing, treating, reporting, partner notification, and patient counseling which emphasizes appropriate prevention messages are all important physician contributions to STD control. In the curricula of most medical schools and residency programs, STDs and the role of public health in control and prevention receive little emphasis for primary care physicians. To address this lack of training, CDC has implemented the STD Faculty Expansion Program (FEP), which aims to improve the capacity of primary care physicians to diagnose, treat, and prevent STDs.

The FEP provides medical schools with funding for an additional faculty member. This faculty person develops and implements curriculum for training medical students and residents, develops collaborative relationships with local health departments, and coordinates STD clinical experiences for medical students and residents. The potential long-term impacts of this STD-related training include: Increased physician awareness of STDs; greater comfort and confidence in counseling patients; increased case reporting and partner management; and ultimately lower STD incidence.

This project is an evaluation of the FEP, because the outcomes of greatest relevance (increased physician awareness, increased collaboration with public health departments, decreased STD incidence) will occur only after students and residents who are currently receiving the enhanced training go into practice.

Four medical schools—Morehouse School of Medicine, University of Alabama at Birmingham, Louisiana State University Medical Center, and the University of California Los Angeles School of Medicine—currently are receiving support under the FEP. The evaluation of the FEP consists of a survey of third-year medical students at the four currently funded schools and a sample of third-year medical students in all other U.S. medical schools. It also includes interviews with key informants at the four currently funded medical schools and the public health departments with which they are working. A paper-and-pencil survey instrument will be administered to the students in the four FEP schools in a classroom or clinic setting or through the school mail distribution system. The survey instrument will be distributed to the sample of students from all other medical schools using express mail. Survey topics will include:

• Hours of clinical and didactic training received during the first three years of medical school;

• Knowledge and efficacy with basic STD clinical diagnosis, treatment, and prevention;

• Students' confidence in taking a sexual history and providing specific prevention counseling to patients; and,

• Student familiarity with the role of the public health department in control and prevention of STDs.

A total of 800 students will be surveyed: Approximately 400 at the FEP schools and 400 (approximately 5%) from all other U.S. medical schools.

The evaluation focuses on intermediate outcomes as a means of assessing the program's utility and effectiveness. Evidence that the FEP's enhanced STD training is effective will include greater knowledge of and comfort in diagnosis, treatment and prevention of STDs among FEP students, recall of more time having been devoted to STDs during medical training, and greater awareness of the primary care physician's public health role in STD control and prevention. The time required to complete the survey will be approximately 15-20 minutes. The only cost to survey respondents is the time involved in completing the survey.

Respondents | Number of respondents | Number of responses per respondent | Average burden per response (in hours) | Total burden hours
3rd-year medical students | 800 | 1 | 20/60 | 267
Total |  |  |  | 267

Dated: September 1, 2004.
Alvin Hall, M.S.,
Director, Management Analysis and Services Office, Centers for Disease Control and Prevention.

[FR Doc. 04-20512 Filed 9-9-04; 8:45 am]

BILLING CODE 4163-18-P